DEPARTMENT OF HOUSING AND URBAN DEVELOPMENT

[Docket No. FR-4572-D-23]

Delegation of Authority to the General Counsel Regarding Civil Money Penalty Actions for Certain Violations in Specified Multifamily Housing Programs

AGENCY: Office of the Assistant Secretary for Housing-Federal Housing Commissioner, HUD.

ACTION: Notice of delegation of authority.

SUMMARY: In this notice, the Assistant Secretary for Housing-Federal Housing Commissioner is delegating authority to the General Counsel of HUD to take civil money penalty actions against multifamily mortgagors and Section 202 mortgagors for certain violations, along with the power to redelegate that authority. Elsewhere in today's Federal Register is a notice of a redelegation from the General Counsel that will enable the Director of the HUD Departmental Enforcement Center (DEC), and concurrently the Directors of the five DEC Satellite Offices, to take these actions as well.

EFFECTIVE DATE: September 12, 2002.

FOR FURTHER INFORMATION CONTACT: Herbert L. Goldblatt, Deputy Chief Counsel, Program Enforcement Branch, Departmental Enforcement Center, Department of Housing and Urban Development, Portals Building, 1250 Maryland Avenue, Suite 200, Washington, DC 20024, (202) 708-3856. This is not a toll free number. For the hearing-speech-impaired, the number may be accessed via TTY by calling the Federal Information Relay Service at 1-800-877-8399.

SUPPLEMENTARY INFORMATION: HUD regulations at 24 CFR 30.45 authorize the Assistant Secretary for Housing-Federal Housing Commissioner, or the Assistant Secretary's designee, to take a civil money penalty action against any mortgagor of a multifamily property with a mortgage insured, co-insured or held by the Secretary pursuant to Title II of the National Housing Act, or against any mortgagor of a property with a mortgage held by the Secretary pursuant to Section 202 of the Housing Act of 1959. Section 30.45 refers to the statutory provisions enumerating the violations for which the Assistant Secretary for Housing-Federal Housing Commissioner may impose a penalty upon those mortgagors. (See 12 U.S.C. 1701q-1(b) and (c), and 12 U.S.C. 1735f-15(b) and (c).)

On September 20, 2000, the Assistant Secretary for Housing-Federal Housing Commissioner retained and delegated to the Director of the DEC the authority to take civil money penalty actions with regard to a mortgagor's failure to timely file an annual financial statement, one of the statutorily enumerated violations. The delegation was published at 65 FR 64981 on October 31, 2000. On January 16, 2001, the Assistant Secretary for Housing-Federal Housing Commissioner retained and delegated to the Director of the DEC the authority to take civil money penalty actions with regard to the remaining statutorily enumerated violations. This delegation has not yet been published in the Federal Register. Neither the September 20, 2000, delegation, nor the January 16, 2001, delegation permitted the Director of the DEC to further redelegate the authority.

Today's notice announces the decision to expand upon the delegations of authority executed on September 20, 2000, and January 16, 2001. The DEC is responsible for carrying out a wide range of HUD enforcement activities. Because the DEC has been recently placed under the Office of the General Counsel, the Assistant Secretary for Housing-Federal Housing Commissioner is delegating the enforcement authority in 24 CFR 30.45 to the General Counsel of HUD along with the power to redelegate that authority. The General Counsel is, in turn, redelegating that authority to the Director of the DEC, and concurrently to the Directors of the five DEC Satellite Offices. The redelegation from the General Counsel to the Director of the DEC and the Directors of the five DEC Satellite Office Directors also appears in today's Federal Register.

In concert with these actions, the delegations of authority issued on September 20, 2000, and January 16, 2001, are revoked.

Finally, the delegation of authority, noticed today, does not affect the authority of the Mortgagee Review Board, described in 24 CFR 30.35, or the Assistant Secretary for Housing-Federal Housing Commissioner to initiate civil money penalty actions.

Accordingly, the Assistant Secretary for Housing-Federal Housing Commissioner hereby (1) revokes and (2) retains and delegates authority as follows:

Section A. Authority Delegated: The General Counsel is hereby delegated the authority to take all actions permitted under 24 CFR 30.45. The authority delegated does not include authority to waive any regulations issued under the authority of the Assistant Secretary for Housing-Federal Housing Commissioner.

Section B. Authority to Redelegate: The General Counsel is authorized to redelegate the authority described in Section A.

Section C. Revocation of Authority: The delegations of authority to the Director of the DEC, issued on September 20, 2000 (65 FR 64981, October 31, 2000), and on January 16, 2001, are hereby revoked.

The Assistant Secretary for Housing-Federal Housing Commissioner may revoke the authority authorized herein, in whole or part, at any time.

Authority: Section 30.45 of Title 24 of the Code of Federal Regulations.

Dated: September 12, 2002.
John C. Weicher,
Assistant Secretary for Housing-Federal Housing Commissioner.

[FR Doc. 02-33041 Filed 12-30-02; 8:45 am]

BILLING CODE 4210-27-P